DEPARTMENT OF ENERGY

Federal Energy Regulatory Commission

[Docket No. EC02-16-001, et al.]

Minnesota Power, et al.; Electric Rate and Corporate Regulation Filings

December 6, 2001.

Take notice that the following filings have been made with the Commission:

1. Minnesota Power, Rainy River Energy Corporation—Taconite Harbor, LTV Steel Mining Company

[Docket No. EC02-16-001]

Take notice that on November 29, 2001, Minnesota Power (MP) and Rainy River Energy Corporation—Taconite Harbor (RRTH) filed with the Federal Energy Regulatory Commission (Commission) an amendment (Amendment) to the November 1, 2001, joint application (Application) pursuant to section 203 of the Federal Power Act of MP, RRTH and LTV Steel Mining Company (LTVSMC), seeking authorization for LTV Steel Mining Company (LTVSMC) to sell and MP and RRTH to acquire certain jurisdictional facilities including a dual-circuit transmission line, substation and step-up transformers. The transaction also involves the acquisition by RRTH of three 75 MW generating facilities from LTVSMC.

The Amendment requests authorization for RRTH to transfer to MP the jurisdictional step-up transformers that RRTH has requested authorization to acquire from LTVSMC and any jurisdictional contracts RRTH may enter into for the sale of the output of the generating facilities RRTH acquired from LTVSMC.

Comment date: December 20, 2001, in accordance with Standard Paragraph E at the end of this notice.

2. Duke Energy South Bay

[Docket No. ER02-239-001]

Take notice that on November 29, 2001, Duke Energy South Bay LLC (Duke South Bay) tendered for filing revisions to its Reliability Must-Run Service Agreement (RMR Agreement) with the California Independent System Operator Corporation (CAISO), which, respectively, reflect changes to Schedule B, Table B-2 (capital surcharge) for 2001 and 2002. Duke South Bay submitted these revisions pursuant to section 7.4 of the RMR Agreement to recover costs from the CAISO related to Duke South Bay's installation of CAISO-approved Capital Items (Selective Catalytic Reduction (SCR) equipment) on Units #2 and #3 of the Duke South Bay facility. Duke South Bay requests an effective date of November 29, 2001, for the 2001 rate revisions, and an effective date of January 1, 2002, for the 2002 rate revisions.

Duke South Bay also requests to substitute certain revisions in this filing for corresponding revisions it had submitted in ER02-239-000.

Copies of Duke South Bay's filing have been served upon the CAISO, the California Electricity Oversight Board, the California Public Utilities Commission, and all Parties on the Commission's service list in Docket No. ER02-239-000.

Comment date: December 20, 2001, in accordance with Standard Paragraph E at the end of this notice.

3. PJM Interconnection, L.L.C.

[Docket No. ER02-427-000]

Take notice that on November 30, 2001, PJM Interconnection, L.L.C. submitted notice of termination of the network integration transmission services agreement for American Cooperative Services, Inc. (American), which terminated by its own terms on November 30, 2001.

Copies of this filing were served upon all members of PJM and the state commissions within the PJM control area.

Comment date: December 21, 2001, in accordance with Standard Paragraph E at the end of this notice.

4. Southern Company Services, Inc.

[Docket No. ER02-428-000]

Take notice that on November 30, 2001, Southern Company Services, Inc. (SCS), acting on behalf of Alabama Power Company, Georgia Power Company, Gulf Power Company, Mississippi Power Company, and Savannah Electric and Power Company (collectively referred to as Southern Companies), filed with the Federal Energy Regulatory Commission (Commission) two (2) service agreements with Oglethorpe Power Corporation for conditional firm point-to-point transmission service under the Open Access Transmission Tariff of Southern Companies (FERC Electric Tariff, Fourth Revised Volume No. 5). The provision of firm service under those agreements is conditioned upon the availability of sufficient capacity during two scheduled outages on certain transmission lines.

Comment date: December 21, 2001, in accordance with Standard Paragraph E at the end of this notice.

5. UGI Development Company

[Docket No. ER02-429-000]

Take notice that on November 30, 2001, UGI Development Company (UGID) tendered for filing revisions to Service Agreement No. 2 for wholesale power sales transactions under UGID's Wholesale Power Sales Tariff, FERC Electric Tariff First Revised Volume No. 1, by and between UGID and UGI Utilities, Inc. UGID requests an effective date of December 1, 2001 for the proposed changes to the Service Agreement.

Comment date: December 21, 2001, in accordance with Standard Paragraph E at the end of this notice.

6. Southern Company Services, Inc.

[Docket No. ER02-430-000]

Take notice that on November 30, 2001, Southern Company Services, Inc. (SCS), acting on behalf of Alabama Power Company (APC), filed with the Federal Energy Regulatory Commission (Commission) the Interconnection Agreement (Agreement) between Blount County Energy, LLC and APC. The Agreement allows Blount County to interconnect its facility in Blount County, Alabama to and operate in parallel with APC's electric system. The Agreement was executed on October 31, 2001. An effective date of October 31, 2001 has been requested.

Comment date: December 21, 2001, in accordance with Standard Paragraph E at the end of this notice.

7. Commonwealth Edison Company

[Docket No. ER02-431-000]

Take notice that on November 30, 2001 Commonwealth Edison Company (ComEd) submitted for filing an amended Form of Service Agreement for Firm Point-To-Point Transmission Service (Amended Service Agreement) between ComEd and Alliant Energy (Alliant Energy) under the terms of ComEd's Open Access Transmission Tariff (OATT). Copies of this filing were served on Alliant.

ComEd requests an effective date of November 1, 2001, and accordingly seeks waiver of the Commission's notice requirements.

Comment date: December 21, 2001, in accordance with Standard Paragraph E at the end of this notice.

8. Progress Energy, Inc. on Behalf of Florida Power Corporation

[Docket No. ER02-432-000]

Take notice that on November 30, 2001, Florida Power Corporation (FPC) filed a Service Agreement with Carolina Power & Light Company under FPC's Short-Form Market-Based Wholesale Power Sales Tariff (SM-1), FERC Electric Tariff No. 10. A copy of this filing was served upon the Florida Public Service Commission and the North Carolina Utilities Commission.

FPC is requesting an effective date of November 8, 2001 for this Agreement.

Comment date: December 21, 2001, in accordance with Standard Paragraph E at the end of this notice.

9. Portland General Electric Company

[Docket No. ER02-433-000]

Take notice that on November 30, 2001, Portland General Electric Company (PGE) filed with the Federal Energy Regulatory Commission (Commission) revised tariff sheets to its Open Access Transmission Tariff. The revised sheets are intended to: (1) Reduce PGE's rates for transmission service to reflect the refunctionalization of PGE's facilities; and (2) update PGE's cost-based rates for ancillary services.

PGE requests that the Commission make the transmission rate reductions effective as of November 1, 2001 and the ancillary services rates effective as of February 1, 2002.

Comment date: December 21, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30672 Filed 12-11-01; 8:45 am]

BILLING CODE 6717-01-P